DEPARTMENT OF COMMERCE

International Trade Administration

[A-580-825]

Oil Country Tubular Goods, Other Than Drill Pipe, From Korea: Preliminary Results of New Shipper Review and Antidumping Duty Administrative Review, and Rescission, in Part, of the Antidumping Duty Administrative Review

AGENCY: Import Administration, International Trade Administration, U.S. Department of Commerce.

SUMMARY: In response to a timely request, properly filed, from Shinho Steel Co., Ltd. (Shinho Steel), the Department of Commerce (“the Department”) is conducting a new shipper review under the antidumping duty order on oil country tubular goods, other than drill pipe (OCTG), from Korea for the period August 1, 2000 through February 28, 2001. In response to requests from Shinho Steel and SeAH Steel Corporation (SeAH), the Department is conducting an administrative review of the antidumping duty order on oil country tubular goods, other than drill pipe (“OCTG”), from Korea. Shinho Steel subsequently withdrew its request for an administrative review. The period of review (POR) for the administrative review for SeAH is August 1, 2000 through July 31, 2001. The preliminary results are listed below in the section entitled “Preliminary Results of Review.”

EFFECTIVE DATE: September 11, 2002.

FOR FURTHER INFORMATION CONTACT: Thomas Gilgunn or Scott Lindsay, Import Administration, International Trade Administration, U.S. Department of Commerce, 14th Street and Constitution Avenue, NW., Washington, DC 20230; telephone: (202) 482-4236 or (202) 482-0780, respectively.

SUPPLEMENTARY INFORMATION:

The Applicable Statute

Unless otherwise indicated, all citations are to the provisions of the Tariff Act of 1930, as amended (the Act). In addition, unless otherwise indicated, all citations to the Department's regulations are to 19 CFR part 351 (2001).

Background

On August 11, 1995, the Department published in the Federal Register an antidumping duty order on OCTG from Korea (60 FR 41058). the antidumping duty order on OCTG from Korea has an August anniversary date and a February semi-annual anniversary date. On February 28, 2001, the Department received a timely request, properly filed, for a new shipper review from Shinho Steel in accordance with section 751(a)(2)(B) of the Act and section 351.214(c)(2) of the Department's regulations.

On April 9, 2001, the Department initiated this new shipper review of Shinho Steel for the period August 1, 2000 through February 28, 2001. See Oil Country Tubular Goods, Other Than Drill Pipe, From Korea: Initiation of New Shipper Antidumping Administrative Review, 66 FR 18438 (April 9, 2001). On August 31, 2001, the Department received timely requests from SeAH and Shinho Steel to conduct an administrative review pursuant to section 351.213(b)(2) of the Department's regulations. We published a notice of initiation of this antidumping duty administrative review on OCTG on October 2, 2001 (66 FR 49925).

On January 22, 2002, Shinho Steel, in accordance with 19 CFR 351.214(j)(3), agreed to waive the time limits applicable to its new shipper review so that the Department might conduct its new shipper review concurrently with the 2000/2001 administrative review of OCTG from Korea. On February 6, 2002, we aligned the deadlines for Shinho Steel's new shipper review with the deadlines of the 2000/2001 administrative review. See Oil Country Tubular Goods Other Than Drill Pipe, From Korea: Postponement of Time Limits for Preliminary Results of New Shipper Review, 67 FR 5563 (February 6, 2002).

The Department subsequently determined it was impracticable to complete the administrative review within the standard time frame, and extended the deadline for completion of both the antidumping duty administrative review and consequently, the aligned new shipper review. See Oil Country Tubular Goods from Korea: Extension of Time Limit for Preliminary Results of Antidumping Duty Administrative Review and New Shipper Review, 67 FR 30357 (May 6, 2002).

Period of Review

Pursuant to section 351.214(g)(1)(i)(B), the standard period of review (POR) in a new shipper proceeding initiated in the month immediately following the semiannual anniversary month is the six-month period immediately preceding the semi-annual anniversary month. Shinho Steel requested that the Department extend the normal six-month period by one month. The Department's regulations provide it with the discretion to expand the normal POR to include an entry and sale to an unaffiliated customer in the United States of subject merchandise if the expansion of the period would likely not prevent the completion of the review within the time limits set forth in Sec. 351.214(i). See Antidumping Duties; Countervailing Duties; Notice of Proposed Rulemaking and Request for Public Comment, 61 FR 7308, 7318 (February 27, 1996); Antidumping Duties; Countervailing Duties; Final Rule, 62 FR 27296, 27319-20 (May 19, 1997). See also 19 CFR 351.214(f)(2)(ii).

Because we determined that the expansion of the period will not likely prevent the completion of the review within the prescribed time limits, we expanded the semi-annual review period by one month. Therefore, the POR for Shinho Steel's new shipper review has been defined as August 1, 2000 through February 28, 2001.

Rescission, In Part, of Administrative Review

Both SeAH and Shinho Steel requested an administrative review. Petitioners did not request an administrative review of any company. On October 2, 2001, Shinho Steel withdrew its request for an administrative review. The Department's regulations at 19 CFR 351.213(d)(1) provide that a party may withdraw its request for review within 90 days of the date of publication of the notice of initiation or the requested review. Shinho Steel withdrew its request for an administrative review within the 90-day period. Therefore, because there were no other requests for an administrative review of Shinho Steel, we are rescinding our administrative review with respect to Shinho Steel.

Scope of the Antidumping Duty Order

The products covered by this order are OCTG, hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the Harmonized Tariff Schedule of the United States (“HTSUS”) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS item numbers are provided for convenience and Customs purposes. The written description remains dispositive of the scope of this review.

Verification

As provided in section 782(i) of the Act, we verified information provided by Shinho Steel in the new shipper review following standard verification procedures, including on-site inspection of the manufacturers facilities and the examination of relevant sales and financial records. See Verification of Sales Information submitted by Shinho Steel Corporation (“Shinho”) in the New Shipper Review of Oil Country Tubular Goods (“OCTG”) from Korea, dated July 1, 2002. Verification of Costs of Shinho Steel Co., Ltd, in the New Shipper Review of Oil Country Tubular Goods, Other Than Drill Pipe, from Korea. dated July 1, 2002. This verification also included on-site verification at Shinho America's offices. The report for this portion at verification will be issued shortly.

New Shipper Status

Based on the questionnaire responses received from Shinho Steel, and our verification thereof, we preliminarily determine that this company has met the requirements to qualify as a new shipper during the POR. We have determined that Shinho Steel made its first sale or shipment of subject merchandise to the United States during the POR, that these sales were bona fide sales, and that Shinho Steel was not affiliated with any exporter or producer that previously shipped to the United States.

Date of Sale

It is the Department's practice normally to use the invoice date as the date of sale. We may, however, use a date other than the invoice date if we are satisfied that a different date better reflects the date on which the exporter or producer establishes the material terms of sale. See section 351.401(i) of the Department's regulations; see also Preamble to Antidumping Duties; Countervailing Duties; Final Rule, 62 FR 27296, 27348-50.

For its U.S. sales, Shinho Steel reported the date of shipment as the date of sale. Shinho Steel reported the invoice date as the date of sale for its third country sales. Shinho Steel's invoice date for its third country sales is the same date on which the goods were shipped to the unaffiliated customer. Shinho Steel has stated the the dates of sale reported in both markets best reflect the dates on which the material terms of the transaction were set. The Department found no information at verification that indicates that another date better reflects that date on which the material terms of sale were established. Therefore, we are preliminarily using the dates of sale reported by Shinho Steel.

SeAH reported two channels of distribution for its U.S. sales. For U.S. channel 1 SeAH reported the date of invoice as the date of sales since “the invoice was the first written documentation finalizing the material terms of sale.” For U.S. channel 2, SeAH reported the shipment date as the date of sale since: (1) The material terms of sale sometimes change between the date of the written purchase order and the invoice date; and (2) the shipment date was always prior to the date of invoice. As such, SeAH has reported that date of shipment best reflects the date on which the material terms of sale for its channel 2 sales are established. For its third country sales, SeAH reported the purchase order date as date of sale. The Department is preliminarily using the dates of sale reported by SeAH.

Transactions Reviewed

Shinho Steel produced OCTG in Korea and shipped it to the United States. Shinho Steel's affiliate, Shinho America Inc. (Shinho America), was the importer of record for all U.S. sales of subject merchandise. All of Shinho Steel's U.S. sales are classified as constructed export price (CEP) sales (see “Constructed Export Price” section below).

SeAH produced OCTG in Korea and shipped it to the United States. SeAH's affiliate Pusan Pipe America, Inc. (PPA), was the importer of record for all U.S. sales. All of SeAH's U.S. sales are classified as CEP sales (see “Constructed Export Price” section below). The Department's questionnaire instructed the respondent to report CEP sales made after importation if the dates of sale fell within the POR (see page C-1 of the Department's October 9, 2001, Questionnaire). We reviewed U.S. sales that involved subject merchandise that had entered the United States and had been placed in the physical inventory of SeAH's U.S. affiliate during the POR. The questionnaire also instructed the respondent to report CEP sales made prior to importation when the entry dates fell within the POR. Consequently, we have limited our U.S. database to these sets of transactions.

Comparison Market

The Department determines the viability of a comparison market by comparing the aggregate quantity of comparison market sales to U.S. sales. An exporting country is not considered a viable comparison market if the aggregate quantity of sales of subject merchandise to that market amounts to less than five percent of the quantity of sales of subject merchandise into the United Stats during the POR. See section 773(a)(1)(B) of the Act; 19 CFR 351.404.

For both Shinho Steel and SeAH, the aggregate quantity of sales of subject merchandise in Korea during the POR amounted to less than five percent of each company's quantity of sales of subject merchandise to the United States during the POR. As such, we preliminarily determine that Korea is not a viable comparison market for either Shinho Steel or SeAH.

According to section 773(a)(1)(B)(ii) of the Act, the price of sales to a third country can be used as the basis for normal value only if such price is representative, if the aggregate quantity (or, where appropriate, value) of sales to that country is at least five percent of the quantity (or value) of total sales to the United States, and if the Department does not determine that the particular market situation in that country prevents proper comparison with the export price or constructed export price.

Shinho Steel sold subject merchandise during the POR to Indonesia, its largest third country market. However, the sales to Indonesia, on both a value and a volume basis, were less than the five percent threshold defined in section 773(a)(1)(B)(ii)(II) of the Act and 19 CFR 351.404. As such, in accordance with section 773(a)(4) of the Act, we are using constructed value (CV) as the basis for NV for Shinho Steel's sales for purposes of these preliminary results. See “Normal Value Comparisons” section below.

The only viable third country market to which SeAH sold subject merchandise during the POR was Jordan. SeAH's sales to Jordan, on both a value and a volume basis, were greater than the five percent threshold defined in section 773(a)(1)(B)(ii)(II) of the Act and 19 CFR 351.404. In addition, there is no evidence on the record supporting a particular market situation in Jordan that would not permit a proper comparison of third country (Jordanian) and U.S. prices. Therefore, for SeAH, in accordance with section 773(a)(1)(B)(ii) of the Act, the preliminary results are based on the price at which the foreign like product was first sold for consumption in the third market, in the usual commercial quantities and in the ordinary course of trade and, to the extent practicable, at the same level of trade as the export price (EP) or constructed export price (CEP) sale.

Normal Value Comparisons

To determine whether Shinho Steel's or SeAH's sales of subject merchandise to the United States were made at less than normal value, we compared each company's CEP to the NV, as described in the “Constructed Export Price” and “Normal Value” sections of this notice. In accordance with section 777A(d)(2) of the Act, we calculated monthly weighted-average prices for NV and compared these to individual U.S. transaction prices.

Constructed Export Price

We preliminarily determine that all of SeAH's U.S. sales were made “in the United States” by PPA, SeAH's U.S. affiliate, on behalf of SeAH within the meaning of section 772(b) of the Act. We also preliminarily determine that all of Shinho Steel's U.S. sales were made “in the United States” by Shinho America, Shinho Steel's U.S. affiliate, on behalf of Shinho Steel within the meaning of section 772(b) of the Act. As such, both SeAH's and Shinho Steel's U.S. sales should be treated as CEP transactions. See AK Steel Corp. v. United States, 226 F.3d 1361, 1374 (Fed. Cir. 2000).

Shinho Steel reported one channel of distribution for its U.S. sales. For Shinho Steel, the starting point for the calculation of CEP was Shinho America's ex-warehouse dock, duty paid, price to its unaffiliated customers in the United States.

SeAH reported two channels of distribution for its U.S. sales: CEP sales of further manufactured merchandise from inventory and CEP sales shipped directly from Korea. For SeAH's channel 1 U.S. sales, the starting point for the calculation of CEP was either the delivered price or the ex-warehouse price to the unaffiliated customer in the United States. For SeAH's channel 2 U.S. sales, the starting point for calculation of CEP was the duty delivered price to the unaffiliated U.S. customer.

We identified the appropriate starting price for both Shinho Steel and SeAH by adjusting for early payment discounts. Where applicable, we made deductions from SeAH's and Shinho Steel's starting price for movement expenses, including foreign inland freight, ocean freight, marine insurance, foreign and U.S. brokerage and handling, U.S. inland freight, U.S. wharfage, and U.S. customs duties in accordance with section 772(c)(2) of the Act. In accordance with section 772(d)(1) of the Act, we also deducted credit expenses and indirect selling expenses, including inventory carrying costs. In accordance with section 772(c)(1)(B) of the Act, we added duty drawback to the starting price. We verified that Shinho Steel performed no further manufacturing on U.S. sales. Finally, for Shinho we deducted an amount of profit allocated Shinho America's selling activities in accordance with section 772(d)(3) of the Act.

For SeAH, where appropriate, we also deducted the cost of further manufacturing in accordance with section 772(d)(2) of the Act. This deduction for further manufacturing was based on the fees charged by unaffiliated U.S. processors. SeAH indicated that although the further processors' invoices did not have separate line items for applicable further manufacturing costs (e.g., processing, materials, overhead, SGA, etc.), the further processor's invoice covered all these costs. We note that SeAH did not report a separate SGA expense related to further processing. Instead, SeAH included all of the expenses incurred by PPA, including the SGA expense associated with PPA's dealings with further manufacturing, as part of its indirect selling expenses incurred in the United States (INDIRSU). We have accepted SeAH's reported SGA since even if the portion of PPA's SGA expenses associated with further manufacturing were assigned to further manufacturing, all SGA expenses including those assigned to further manufacturing would be deducted from CEP. In addition, those SGA expenses assigned to further manufacturing would also be included in the CEP offset cap as defined in section 351.412(f)(2) of the Department's regulations. Finally, we deducted an amount of profit allocated PPA's selling activities, including further manufacturing related expenses, in accordance with section 772(d)(3) of the Act.

Normal Value

A. Model Match

In making comparisons in accordance with section 771(16) of the Act, we considered all products described in the “Scope of the Antidumping Duty Order“ section of this notice, sold in the comparison market in the ordinary course of trade for purposes of determining appropriate product comparisons to U.S. sales. Where there were no sales of identical merchandise in the comparison market made in the ordinary course of trade to compare to U.S. sales, we compared U.S. sales to sales of the most similar foreign like product made in the ordinary course of trade, based on the characteristics listed in Appendix V of the Department's October 9, 2001 antidumping questionnaire.

B. Constructed Value

Shinho Steel: We used CV as the basis for NV because there was no viable comparison market in accordance with section 773(a)(4) of the Act. We calculated CV in accordance with section 773(e) of the Act. We included Shinho Steel's cost of materials and fabrication (including packing), SG&A expenses, and profit. See section 773(e)(2)(A) of the Act. In accordance with section 773(e)(2)(A) of the Act, we based SG&A expenses on the amounts incurred and realized by the respondent in connection with the production and sale of the foreign like product in the ordinary course of trade for consumption in the foreign country. For profit, we calculated rates derived from Shinho Steel's year 2000 financial statements.

SeAH: We used CV as the basis for NV when there were no usable contemporaneous sales of subject merchandise in the comparison market in accordance with section 773(a)(4) of the Act. We calculated CV in accordance with section 773(e) of the Act. We included SeAH's cost of materials and fabrication (including packing), SG&A expenses, and profit. See section 773(e)(2)(A) of the Act. In accordance with section 773(e)(2)(A) of the Act, we based SG&A expenses and profit on the amounts incurred and realized by the respondent in connection with the production and sale of the foreign like product in the ordinary course of trade for consumption in the foreign country. For selling expenses, we relied on SeAH's reported weighted-average third country selling expenses.

C. Price-to-Price Comparisons

Where appropriate, for comparison to CEP, we made adjustments to NV by deducting Korean inland freight from the factory to the port, brokerage and handling, terminal charges, wharfage, international ocean freight and packing, in accordance with section 773(a)(6)(B) of the Act, and direct selling expenses (credit expenses) in accordance with section 773(a)(6)(C)(iii) of the Act. We also made adjustments for differences in costs attributable to differences in physical characteristics of merchandise, pursuant to section 773(a)(6)(C)(ii) of the Act.

Finally, the Department added duty drawback to third-country prices for comparison to duty-inclusive cost of production and U.S. price. See e.g., Oil Country Tubular Goods from Korea: Final Results of Antidumping Duty Administrative Review, 64 FR 13369 (March 17, 1999).

Level of Trade

In accordance with section 773(a)(1)(B) of the Act, to the extent practicable, we determined NV based on sales in the comparison market at the same level of trade (“LOT”) of the U.S. sales. The NV LOT is that of the starting-price sales in the comparison market. The Court of Appeals for the Federal Circuit has held that the statute unambiguously requires Commerce to deduct the selling expenses set forth in section 772(d) from the CEP starting price prior to performing its LOT analysis. See Micron Technology, Inc. v. United States, 243 F.3rd 1301, 1315 (Fed. Cir. 2001). Consequently, the Department will continue to adjust the CEP, pursuant to section 772(d), prior to performing the LOT analysis, as articulated by the Department's regulations at section 351.412. When NV is based on CV, the NV LOT is that of the sales from which we derive SG&A expenses and profit.

To determine whether comparison market NV sales are at a different LOT than EP or CEP sales, we examine stages in the marketing process and selling functions along the chain of distribution between the producer and unaffiliated customer. If the comparison-market sales are at a different level of trade and the difference affects price comparability, as manifested in a pattern of consistent price differences between the sales on which NV is based and comparison-market sales at the level of trade of the export transaction, we make a level-of-trade adjustment under section 773(a)(7)(A) of the Act. Finally, if the NV level is more remote from the factory than the CEP level and there is no basis for determining whether the difference in the levels between NV and CEP affects price comparability, we adjust NV under section 773(a)(7)(B) of the Act (the CEP-offset provision). See also Notice of Final Determination of Sales at Less Than Fair Value: Certain Cut-to-Length Carbon Steel Plate from South Africa, 62 FR 61731, 61732 (November 17, 1997).

In Jordan, SeAH reported only one LOT and, therefore, could not quantify a level of trade adjustment. SeAH contends that when the CEP adjustments are made, the CEP LOT is less advanced than the foreign market LOT, qualifying SeAH for a CEP offset. A comparison of the selling functions that SeAH reported for its two U.S. sales channels indicates that the difference in selling functions of the two channels was not substantial. As such, the difference in selling functions was insufficient to support SeAH's claim that each channel was a different LOT. Therefore, in accordance with section 351.412(c)(2), we find that SeAH has only one LOT for its sales in the United States.

For SeAH's sales in the foreign market (i.e., the third-country market), the relevant transaction for the Department's analysis is between the SeAH and the unaffiliated Korean trading company. After deducting the selling expenses set forth in section 772(d) from the CEP starting price, SeAH's sales to Jordan are at a more advanced LOT than the CEP sales.

As set forth in section 351.412(f) of the Department's regulations, a CEP offset will be granted where (1) normal value is compared to CEP sales, (2) normal value is determined at a more advanced LOT than the LOT of the CEP, and (3) despite that fact that the party has cooperated to the best of its ability, the data available do not provide an appropriate basis to determine whether the difference in LOT affects price comparability. Since the selling functions provided by PPA for SeAH's sales to the United States, after deducting the selling expenses set forth in section 772(d) from the CEP starting price, are at a marketing stage which is less advanced than for the SeAH's sales to Jordan, we preliminarily determine that sales in Jordan are being made at a more advanced LOT than those to the United States. Because there is only one level of trade in Jordan, the data available do not permit us to determine the extent to which this difference in LOT affects price comparability. Therefore, in accordance with section 351.412(f), we are granting SeAH a CEP offset. To calculate this offset, we deducted indirect selling expenses from NV to the extent of U.S. indirect selling expenses.

Currency Conversion

We made currency conversions in accordance with section 773A of the Act based on the exchange rates in effect on the dates of the U.S. sales as certified by the Federal Reserve Bank.

Company Name Change

On May 2, 2002, Shinho Steel informed the Department that, effective April 1, 2002, it had legally changed its name to Husteel Co. Ltd. We note that the date of the name change is after the POR. A changed circumstances review addressing this name change is currently being conducted in Certain Circular Welded Non-Alloy Steel Pipe from Korea (A-580-809). See Certain Circular Welded Non-Alloy Steel Pipe from the Republic of Korea; Initiation of Changed Circumstances Antidumping Duty Administrative Review, 67 FR 41394 (June 18, 2002).

Preliminary Results of Review

We preliminarily determine that the following dumping margin exists:

Manufacturer/Exporter | Time period | Margin (percent)
SeAH Steel Corporation | 08/01/2000-07/31/2001 | 0.39
Shinho Steel Company | 08/01/2000-02/28/2001 | 0.00

Cash Deposit Requirements

If these preliminary results are not modified in the final results of these reviews, the following deposit rates will be effective upon publication of the final results of this new shipper and administrative review for all shipments of OCTG from Korea entered, or withdrawn from warehouse, for consumption on or after the publication date, as provided for by section 751(a)(2)(C) of the Act: (1) For SeAH and Shinho Steel, the cash deposit rate will be the rates established in the final results of these reviews; (2) for previously reviewed or investigated companies not listed above, the cash deposit rate will be the company-specific rate established for the most recent period; (3) if the exporter is not a firm covered in this review, a prior review, or the original less than fair value (LTFV) investigation, but the manufacturer is, the cash deposit rate will be the rate established for the most recent period for the manufacturer of the subject merchandise; and (4) for all other producers and/or exporters of this merchandise, the cash deposit rate shall be the rate established in the LTFV investigation, which is 12.17 percent. See Final Determination of Sales at Less Than Fair Value: Oil Country Tubular Goods from Korea, 60 FR 33561 (June 28, 1995).

Comments and Hearing

The Department will disclose calculations performed in connection with these preliminary results of reviews within five days of the date of publication of this notice in accordance with 19 CFR 351.224(b). Any interested party may request a hearing within 30 days of publication of this notice in accordance with section 351.310(c) of the Department's regulations. Any hearing would normally be held 37 days after the publication of this notice, or the first workday thereafter, at the U.S. Department of Commerce, 14th Street and Constitution Avenue NW., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) The party's name, address, and telephone number; (2) the number of participants; and, (3) to the extent practicable, an identification of the arguments to be raised at the hearing.

Unless otherwise notified by the Department, interested parties may submit case briefs within 30 days of the date of publication of this notice in accordance with 351.309(c)(ii) of the Department's regulations. As part of the case brief, parties are encouraged to provide a summary of the arguments not to exceed five pages and a table of statutes, regulations, and cases cited. Rebuttal briefs, which must be limited to issues raised in the case briefs, must be filed within five days after the case brief is filed. If a hearing is held, an interested party may make an affirmative presentation only on arguments included in that party's case brief and may make a rebuttal presentation only on arguments included in that party's rebuttal brief. Parties should confirm by telephone the time, date, and place of the hearing 48 hours before the scheduled time.

The Department will issue the final results of the new shipper review concurrently with the final results of the administrative review. See “Background” section of this notice, above.

Assessment Rates

Upon completion of these reviews, the Department will determine, and the Customs Service shall assess, antidumping duties on all appropriate entries. In accordance with 19 CFR 351.212(b)(1), we have calculated an exporter/importer (or customer)-specific assessment rate for merchandise subject to these reviews. The Department will issue appropriate appraisement instructions directly to the Customs Service within 15 days of publication of the final results of reviews. If these preliminary results are adopted in the final results of review, we will direct the Customs Service to assess the resulting assessment rates against the entered customs values for the subject merchandise on each of the importer's/customer's entries during the review period.

Notification to Importers

This notice also serves as a preliminary reminder to importers of their responsibility under 351.402(f) of the Department's regulations to file a certificate regarding the reimbursement of antidumping duties prior to liquidation of the relevant entries during these review periods. Failure to comply with this requirement could result in the Secretary's presumption that reimbursement of antidumping duties occurred and the subsequent assessment of double antidumping duties.

These reviews and notice are issued in accordance with sections 751(a)(1) and 777(i)(1) of the Act (19 U.S.C. 1675(a)(1) and 19 U.S.C. 1677(f)(i)(1)).

Dated: August 26, 2002.
Joseph A. Spetrini,
Acting Assistant Secretary for Import Administration.

[FR Doc. 02-23079 Filed 9-10-02; 8:45 am]

BILLING CODE 3510-DS-M